DEPARTMENT OF TRANSPORTATION

Federal Aviation Administration

[Docket No. FAA-2019-0413]

Notice of Intent to Designate as Abandoned Supplemental Type Certificates: S.T.C. Bee, Inc., SA374NW, SA391NW, SA393NW, SA395NW, SA575NW, SA576NW, SA613NW, and SA823NW (Original Product Type Certificate Number A-769—Sky Enterprises, Inc.—RC-3)

AGENCY: Federal Aviation Administration (FAA), DOT.

ACTION: Notice of intent to designate S.T.C. Bee, Inc., supplemental type certificates as abandoned; request for comments.

SUMMARY: This notice announces the FAA's intent to designate S.T.C. Bee, Inc., Supplemental Type Certificate (STC) Nos. SA374NW, SA391NW, SA393NW, SA395NW, SA575NW, SA576NW, SA613NW, and SA823NW, as abandoned and make the related engineering data available upon request. The FAA has received a request to provide engineering data concerning these STCs. The FAA has been unsuccessful in contacting S.T.C. Bee, Inc., and its heir concerning the STCs. This action is intended to enhance aviation safety.

DATES: The FAA must receive all comments by December 9, 2019.

FOR FURTHER INFORMATION CONTACT: Send all comments on this notice to the Federal Aviation Administration, Seattle ACO Branch, Attention: Karen Murphy, AIR-781, 2200 South 216th Street, Des Moines, WA 98198. You may also contact Karen Murphy by phone at (206) 231-3562 or email at Karen.Murphy@faa.gov.

SUPPLEMENTARY INFORMATION:

Comments Invited

Interested parties are invited to provide comments, written data, views, or arguments relating to this notice. All comments received on or before the closing date will be considered. All comments received will be available in the docket for examination by interested persons. Comments may be inspected at the office of the FAA, Seattle ACO, 2200 South 216th Street, Des Moines, WA, between 9 a.m. and 4 p.m. Monday through Friday, except Federal holidays.

Background

This notice is to inform the public that the FAA intends to designate S.T.C. Bee, Inc., STC Nos. SA374NW, SA391NW, SA393NW, SA395NW, SA575NW, SA576NW, SA613NW, and SA823NW, as abandoned and subsequently release the related engineering data.

The FAA has received a third party request for the release of data for the S.T.C. Bee, Inc., STCs under the provisions the Freedom of Information Act (FOIA), 5 U.S.C. 552. The third party requester is the owner of an aircraft modified by these STCs and would like the engineering data to maintain the aircraft. The FAA cannot release commercial or financial information, such as the requested data, under FOIA without the permission of the data owner. However, in accordance with title 49 of the United States Code § 44704(a)(5), the FAA can make available upon request engineering data in possession of the FAA relating to an STC if the FAA can determine that the STC has been inactive for 3 or more years, and using due diligence the FAA is unable to locate the owner of record or the owner of record's heir. There has been no activity on these STCs for more than 3 years.

On January 17, 2017, the FAA sent registered letters to S.T.C. Bee, Inc.'s last known addresses, 10900 Rainier Avenue South, Seattle, WA 98178, and P.O. Box 264, McKenna, WA 98558. The FAA informed the company that the FAA intends to classify STC Nos. SA374NW, SA391NW, SA393NW, SA395NW, SA575NW, SA576NW, SA613NW, and SA823NW as abandoned unless, within 60 days of receipt of the letter, the FAA receives a written statement from them stating they are the holder of SA374NW, SA391NW, SA393NW, SA395NW, SA575NW, SA576NW, SA613NW, and SA823NW. The FAA has also attempted to make contact with S.T.C. Bee, Inc., by sending a registered letter to the last known owner, Mr. Jack Daubenspeck, and Mr. Daubenspeck's son, Mike Alan Daubenspeck, at 5605 32nd Court SE, Lacey, WA 98503, informing them of the same as sent in the company registered letter. The FAA was unsuccessful in its attempts to contact the STCs' owner or heir. Additionally, the FAA attempted to make contact with S.T.C. Bee, Inc., by other means, including telephone communication and internet searches, but without success.

Information Requested

If you are the owner, or heir, or a transferee of STC Nos. SA374NW, SA391NW, SA393NW, SA395NW, SA575NW, SA576NW, SA613NW, and SA823NW, or have any knowledge regarding who may now hold STC Nos. SA374NW, SA391NW, SA393NW, SA395NW, SA575NW, SA576NW, SA613NW, and SA823NW, please contact Karen Murphy using a method described in this notice under FOR FURTHER INFORMATION CONTACT. If you are the heir of the owner or the owner by transfer of STC Nos. SA374NW, SA391NW, SA393NW, SA395NW, SA575NW, SA576NW, SA613NW, and SA823NW, you must provide a notarized copy of your Government issued identification with a letter and background establishing your ownership of the STCs and, if applicable, your relationship as the heir to the deceased holder of the STCs.

Conclusion

If the FAA does not receive any response by December 9, 2019, the FAA will consider STC Nos. SA374NW, SA391NW, SA393NW, SA395NW, SA575NW, SA576NW, SA613NW, and SA823NW abandoned, and the FAA will proceed with the release of the requested data. This action is for the purpose of maintaining the airworthiness of an aircraft and enhancing aviation safety.

Issued in Des Moines, Washington, on June 4, 2019.
Paul R. Bernado,
Aviation Safety, Acting Manager, Seattle ACO Branch, Compliance and Airworthiness Division, Aircraft Certification Service.

[FR Doc. 2019-12095 Filed 6-7-19; 8:45 am]

BILLING CODE 4910-13-P